DEPARTMENT OF THE INTERIOR

Bureau of Land Management

[ID-110-1610-DG-053D-DBG081008]

Notice of Intent To Prepare a Resource Management Plan for the Four Rivers Field Office (Idaho) and Associated Environmental Impact Statement

AGENCY: Bureau of Land Management, Department of the Interior.

ACTION: Notice of intent.

SUMMARY: Pursuant to Section 202 of the Federal Land Policy and Management Act of 1976 (FLPMA) and Section 102 (2)(C) of the National Environmental Policy Act of 1969 (NEPA), the Bureau of Land Management (BLM) Four Rivers Field Office (FRFO), Boise, Idaho intends to prepare a RMP with an associated EIS for the Four Rivers Planning Area. Publication of this notice also initiates a public scoping period to extend until 15 days after the last public scoping meeting. RMPs are the basic land use documents used by the BLM that guide land use decisions and management actions on public lands. RMP level decisions establish goals and objectives (i.e. desired future conditions), the measures needed to achieve those goals and objectives and the parameters for resource use on BLM lands. This RMP will replace the 1988 Cascade RMP and portions of the 1983 Kuna Management Framework Plan (MFP) and the 1987 Jarbidge RMP. The Snake River Birds of Prey National Conservation Area (NCA), located in the FRFO, is being addressed in a separate, comprehensive RMP currently available as a Final EIS.

DATES: The BLM will announce public scoping meetings pursuant to 43 CFR 1610.2 (BLM Planning Regulations) and 40 CFR 1501.7 (NEPA Regulations) to identify relevant issues. Meetings will be announced through local news media, newsletters and the Idaho BLM Web site (listed below) at least 15 days prior to the first meeting once specific dates and locations are finalized. Throughout the planning process, the public will be given opportunities to participate through workshops and open house meetings. Workshops will provide the public an opportunity to work with BLM in (1) identifying the full range of issues to be addressed in the RMP/EIS and (2) developing the alternatives to be analyzed in the EIS. BLM will also provide an opportunity for public review upon publication of the Draft RMP/EIS.

ADDRESSES: You may submit comments by any of the following methods:

• Web site: http://www.blm.gov/id/st/en/fo/four_rivers/Planning/four_rivers_resource.html.

• E-mail: Four_Rivers_RMP@blm.gov.

• Fax: 208-384-3493.

• Mail: Bureau of Land Management, Attn: RMP Project Manager, Four Rivers Field Office, 3948 Development Avenue, Boise, ID 83705.

Before including your address, phone number, e-mail address or other personal identifying information in your comment, you should be aware that your entire comment—including your personal identifying information—may be made publicly available at any time. While you can ask us in your comment to withhold your personal identifying information from public review, we cannot guarantee that we will be able to do so. All submissions from organizations or businesses and individuals identifying themselves as representatives of organizations or businesses will be made available for public inspection in their entirety. Documents pertinent to this proposal may be examined at the Four Rivers Field Office at the above address.

FOR FURTHER INFORMATION: For further information and/or to have your name added to the mailing list, contact Jonathan Beck, FRFO RMP Project Manager, Four Rivers Field Office, at the address above. Telephone: 208-384-3300 or e-mail: Four_Rivers_RMP@blm.gov.

SUPPLEMENTARY INFORMATION: The planning area is located in southwestern Idaho's Ada, Adams, Boise, Canyon, Elmore, Gem, Payette, Valley and Washington counties, encompassing approximately 783,000 public land acres administered by the BLM. The planning area includes all of the FRFO located outside the Snake River Birds of Prey National Conservation Area (NCA), and encompasses an area extending north of the Snake River from approximately Glenns Ferry in the southeast, west to Weiser, and north to McCall. Much of the planning area is comprised of interspersed sections of public, private, State or Forest Service lands. While the FRFO includes the approximately one half million acre NCA, along about 81 miles of the Snake River, the NCA is managed under its own comprehensive RMP. The Four Rivers RMP will fulfill the needs and obligations set forth by the National Environmental Policy Act (NEPA), the Federal Land Policy and Management Act (FLPMA) and BLM management policies. The BLM will work collaboratively with interested parties to identify the management decisions best suited to local, regional and national needs and concerns.

The purpose of the public scoping process is to determine relevant issues that will influence the scope of the environmental analysis and EIS alternatives. These issues also guide the planning process. You may submit comments on issues and planning criteria, in writing, to the BLM at any public scoping meeting or you may submit them to the BLM using one of the methods listed in the ADDRESSES section above. To be most helpful, you should submit formal scoping comments within 15 days after the last public meeting.

Preliminary issues and management concerns have been identified by BLM personnel, other agencies, and individuals and user groups. They represent BLM's knowledge to date regarding existing issues and concerns with current land management. The preliminary issues that will be addressed in this planning effort include: land tenure adjustments, lands and realty management, special status species management, recreation management, public access and transportation, livestock grazing management, wild and scenic river evaluations, riparian-wetland management, upland vegetation management, noxious weed management, wildfire management, social and economic sustainability of local communities, and mineral and energy exploration and development.

In addition, the BLM also requests public input for nominations considered worthy of Area of Critical Environmental Concern (ACEC) designation. To be considered as a potential ACEC, an area must meet the criteria of relevance and importance as established and defined at 43 CFR 1610.72. There are nine ACECs and six ACEC/Research Natural Areas within the Four Rivers Planning Area. All ACEC nominations within the planning area will be evaluated during RMP development. After gathering public comments on which issues the plan should address, the suggested issues will be evaluated for their applicability to the planning process and categorized into one of following categories:

1. Issues to be resolved in the plan;

2. Issues to be resolved through policy or administrative action; or

3. Issues beyond the scope of this plan.

This evaluation and categorization will be described in the plan with associated rationale. In addition to the issues to be resolved in the plan, a number of management questions and concerns will also be addressed. The public is encouraged to help identify these questions and concerns during the scoping period.

The BLM will use an interdisciplinary approach to develop the plan. In order to consider the variety of resource issues and concerns identified, specialists with expertise in the disciplines corresponding to the issues listed above will be represented and utilized in the planning process.

Dated: March 27, 2008.
David Wolf,
Associate District Manager.

[FR Doc. E8-6901 Filed 4-2-08; 8:45 am]

BILLING CODE 4310-GG-P